DEPARTMENT OF EDUCATION

Applications for New Awards; Foreign Language and Area Studies Fellowships Program

AGENCY: Office of Postsecondary Education, Department of Education.

ACTION: Notice.

SUMMARY: The Department of Education (Department) is issuing a notice inviting applications for fiscal year (FY) 2022 for the Foreign Language and Area Studies Fellowships (FLAS) Program, Assistance Listing Number 84.015B. This notice relates to the approved information collection under OMB control number 1840-0807.

DATES:

Applications Available: December 16, 2021.

Deadline for Transmittal of Applications: February 14, 2022.

Deadline for Intergovernmental Review: April 15, 2022.

Pre-Application Webinar information: The Department held a pre-application meeting via webinar for prospective applicants on November 10, 2021. The link for the webinar is located on the International and Foreign Language Education website at https://www2.ed.gov/programs/iegpsnrc/applicant.html.

Additionally, for new potential grantees unfamiliar with grantmaking at the Department, please consult our funding basics resources at https://www2.ed.gov/documents/funding-101/funding-101-basics.pdf.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Timothy Duvall, U.S. Department of Education, International and Foreign Language Education, 400 Maryland Avenue SW, Room 2B225, Washington, DC 20202. Telephone: (202) 453-7521. Email: NRC-FLAS@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The FLAS Program allocates academic year and summer fellowships to institutions of higher education (IHEs) and consortia of such institutions to assist meritorious undergraduate and graduate students receiving modern foreign language training in combination with area studies, international studies, or the international aspects of professional studies. FLAS fellowships may also assist graduate students engaged in predissertation-level study, preparation for dissertation research, dissertation research abroad, or dissertation writing.

Priorities: This notice contains two competitive preference priorities. Competitive Preference Priority 1 is from the notice of final priorities for the FLAS Program published in the Federal Register on May 30, 2014 (79 FR 31031) (NFP), and Competitive Preference Priority 2 is from 34 CFR 657.22(a), which provides that the Secretary may designate specific languages as a priority for the allocation of fellowships.

Competitive Preference Priorities: For FY 2022, these priorities are competitive preference priorities. Under 34 CFR 75.105(C)(2)(i), we award an additional five points to an application that meets Competitive Preference Priority 1, and an additional five points to an application that meets Competitive Preference Priority 2. An applicant may receive a total of up to 10 additional points under the competitive preference priorities.

These priorities are:

Competitive Preference Priority 1—FLAS Fellowships for Students Who Demonstrate Financial Need. (0 or 5 points)

Applications that propose to give preference when awarding fellowships to undergraduate students, graduate students, or both, to students who demonstrate financial need as indicated by the students' expected family contribution, as determined under part F of title IV of the Higher Education Act of 1965, as amended (HEA). This need determination will be based on the students' financial circumstances and not on other aid. The applicant must describe how it will ensure that all fellows who receive such preference show potential for high academic achievement based on such indices as grade point average, class ranking, or similar measures that the institution may determine.

Competitive Preference Priority 2—Academic Year FLAS Fellowships Awarded in the Less Commonly Taught Languages. (0 or 5 points)

Applications that propose to award at least 25 percent of academic year FLAS fellowships in modern foreign languages other than French, German, and Spanish.

Program Authority: 20 U.S.C. 1122.

Note: Projects will be awarded and must be operated in a manner consistent with the nondiscrimination requirements contained in Federal civil rights laws.

Applicable Regulations: (a) The Education Department General Administrative Regulations in 34 CFR parts 75, 76, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 655 and 657. (e) The NFP.

Areas of National Need: In accordance with section 601(c) of the HEA (20 U.S.C. 1121(c)), the Secretary consulted with a wide range of Federal agencies and received recommendations regarding national need for expertise in foreign language and world regions. These agencies' recommendations may be viewed on this web page: https://www2.ed.gov/about/offices/list/ope/iegps/languageneeds.html.

II. Award Information

Type of Award: Discretionary grants.

Estimated Available Funds: $31,236,116.

Contingent upon the availability of funds and the quality of applications, we may make additional awards in FYs 2023, 2024, and 2025 from the list of unfunded applications from this competition.

Estimated Range of Awards: $154,500-$351,000 per year.

Estimated Average Size of Awards: $202,500 per year.

Estimated Number of Awards: 100.

FLAS Fellowship Subsistence Allowances: The subsistence allowance for a graduate student academic year fellowship is $20,000; the subsistence allowance for an undergraduate student academic year fellowship is $5,000. The subsistence allowance for a summer fellowship is $2,500 for graduate and undergraduate students.

FLAS Fellowship Institutional Payments: The institutional payment for a graduate student academic year fellowship is $18,000; the institutional payment for an undergraduate student academic year fellowship is $10,000. The institutional payment for a summer fellowship is $5,000 for graduate and undergraduate students.

Note: The Department is not bound by any estimates in this notice. The estimated range and average size of awards are based on a single 12-month budget period.

Project Period: Up to 48 months.

III. Eligibility Information

1. Eligible Applicants: IHEs (as defined in section 101 of the HEA (20 U.S.C. 1001)) or consortia of IHEs.

2. Eligible Participants: A student is eligible to receive a fellowship if the student—

(a)(1) Is a citizen or national of the United States; or (2) Is a permanent resident of the United States;

(b) Is accepted for enrollment or is enrolled—

(1) In an institution receiving an allocation of fellowships; and

(2) In a program that combines modern foreign language training with (i) area or international studies; or (ii) research and training in the international aspects of professional and other fields of study;

(c) Shows potential for high academic achievement based on such indices as grade point average, class ranking, or similar measures that the institution may determine;

(d) Is enrolled in a program of modern foreign language training in a language for which the institution has developed or is developing performance-based instruction;

(e) In the case of an undergraduate student, is in the intermediate or advanced study of a less commonly taught language; and

(f) In the case of a graduate student, is engaged in—

(1) Predissertation-level study;

(2) Preparation for dissertation research;

(3) Dissertation research abroad; or

(4) Dissertation writing.

3.a. Cost Sharing or Matching: This program does not require cost sharing or matching.

b. Administrative Cost Limitation: This program does not allow administrative expenses.

4. Subgrantees: Under 34 CFR 75.708(b) and (c), a grantee under the FLAS Program may not award subgrants to entities to directly carry out project activities described in its application.

5. Other: (a) Reasonable and Necessary Costs: Applicants must ensure that all costs included in the proposed budget are necessary and reasonable to meet the goals and objectives of the proposed project. Any costs determined by the Secretary to be unreasonable or unnecessary will be removed from the final approved budget.

(b) Audits: (i) A non-Federal entity that expends $750,000 or more during the non-Federal entity's fiscal year in Federal awards must have a single or program-specific audit conducted for that year in accordance with the provisions of 2 CFR part 200. (2 CFR 200.501(a))

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office (GAO). (2 CFR 200.501(d))

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: We specify unallowable costs in 34 CFR 656.30(b) and 657.33. We reference additional regulations outlining funding restrictions in the Applicable Regulations section of this notice.

4. Recommended Page Limit: The application narrative (Part III of the application) is where you, the applicant, address the priorities, selection criteria, and application requirements that reviewers use to evaluate your application. We recommend that you (1) limit the application narrative to no more than 50 pages for single institution applications, and to no more than 60 pages for consortia applications and (2) use the following standards:

• A “page” is 8.5″ x 11″, on one side only, with 1″ margins at the top, bottom, and both sides.

• Double space (no more than three lines per vertical inch) all text in the application narrative, except titles, headings, footnotes, quotations, references, and captions, as well as all text in charts, tables, figures, and graphs.

• Use a font that is either 12 point or larger, or no smaller than 10 pitch (characters per inch). However, you may use a 10-point font in charts, tables, figures, and graphs.

• Use one of the following fonts: Times New Roman, Courier, Courier New, or Arial.

The recommended page limit applies to the entirety of the application narrative. The recommended page limit does not apply to the Application for Federal Assistance face sheet (SF 424); the supplemental SF 424 form; Budget Information—Non-Construction Programs (ED 524); the detailed line item budget; the assurances and certifications, and the response to section 427 of the General Education Provisions Act; the project abstract, the table of contents, the list of acronyms, the response to the diverse perspectives/areas of need requirements, the FLAS project profile form, the FLAS-eligible languages form, or the appendices (curriculum vitae, course list, letters of support).

5. Award Basis: In determining whether to approve a grant award and the amount of such award, the Department will consider, among other things, the applicant's performance and use of funds under a previous or existing award under any Department program (34 CFR 75.217(d)(3)(ii) and 75.233). In assessing the applicant's performance and use of funds under a previous or existing award, the Secretary will consider, among other things, the outcomes the applicant has achieved and the results of any Departmental grant monitoring, including the applicant's progress in remedying any deficiencies identified in such monitoring.

V. Application Review Information

1. General: For the FY 2022 FLAS competition, all applications will be assigned to peer review panels based on world region—such as Africa, South Asia, the Middle East—or international in focus as specified in the FLAS application. Readers who serve on the peer review panels are selected based on their expertise in the specialized area studies, international studies, and modern foreign language(s) necessary to effectively review, score, and rank the applications assigned to them. For the FLAS competition, the Department will select applications for funding consideration based on the ranking of each application within its distinct regional panel.

2. Selection Criteria: The following selection criteria for this program are from 34 CFR 657.21. The maximum score under the selection criteria, taken together with the maximum number of points awarded to applicants that address the competitive preference priorities, is 110 points.

(a) Commitment to the subject area on which the applicant focuses (up to 5 points). The Secretary reviews each application for information to determine—

(1) The extent to which the institution provides financial and other support to the operation of the applicant, teaching staff for the applicant's subject area, library resources, and linkages with institutions abroad; and

(2) The extent to which the institution provides financial support to students in fields related to the applicant's teaching program.

(b) Quality of the applicant's language instructional program (up to 14 points). The Secretary reviews each application for information to determine—

(1) The extent to which the applicant provides instruction in the languages of the applicant's subject area and the extent to which students enroll in the study of the languages of the subject area through programs or instruction offered by the applicant or other providers;

(2) The extent to which the applicant provides three or more levels of language training and the extent to which courses in disciplines other than language, linguistics, and literature are offered in appropriate foreign languages;

(3) Whether sufficient numbers of language faculty are available to teach the languages and the levels of instruction described in the application and the extent to which language teaching staff (including faculty and instructional assistants) have been exposed to current language pedagogy training appropriate for performance-based teaching; and

(4) The quality of the language program as measured by the performance-based instruction being used or developed, the adequacy of resources for language teaching and practice, and language proficiency requirements.

(c) Quality of the applicant's non-language instructional program (up to 14 points). The Secretary reviews each application for information to determine—

(1) The quality and extent of the applicant's course offerings in a variety of disciplines, including the extent to which courses in the applicant's subject matter are available in the institution's professional schools;

(2) The extent to which the applicant offers depth of specialized course coverage in one or more disciplines on the applicant's subject area;

(3) The extent to which the institution employs a sufficient number of teaching faculty to enable the applicant to carry out its purposes and the extent to which instructional assistants are provided with pedagogy training; and

(4) The extent to which interdisciplinary courses are offered for students.

(d) Quality of curriculum design (up to 13 points). The Secretary reviews each application to determine—

(1) The extent to which the applicant's curriculum provides training options for students from a variety of disciplines and professional fields and the extent to which these programs and their requirements (including language requirements) are appropriate for an applicant in this subject area and result in graduate training programs of high quality;

(2) The extent to which the applicant provides academic and career advising services for students; and

(3) The extent to which the applicant has established formal arrangements for students to conduct research or study abroad and the extent to which these arrangements are used; and the extent to which the institution facilitates student access to other institutions' study abroad and summer language programs.

(e) Quality of staff resources (up to 13 points). The Secretary reviews each application to determine—

(1) The extent to which teaching faculty and other staff are qualified for the current and proposed activities and training programs, are provided professional development opportunities (including overseas experience), and participate in teaching, supervising, and advising students;

(2) The adequacy of applicant staffing and oversight arrangements and the extent to which faculty from a variety of departments, professional schools, and the library are involved; and

(3) The extent to which the applicant, as part of its non-discriminatory employment practices, encourages applications for employment from persons who are members of groups that have been traditionally underrepresented, such as members of racial or ethnic minority groups, women, persons with disabilities, and the elderly.

(f) Strength of library (up to 6 points). The Secretary reviews each application to determine—

(1) The strength of the institution's library holdings (both print and non-print, English and foreign language) for students; and the extent to which the institution provides financial support for the acquisition of library materials and for library staff in the subject area of the applicant; and

(2) The extent to which research materials at other institutions are available to students through cooperative arrangements with other libraries or on-line databases.

(g) Impact and evaluation (up to 25 points). The Secretary reviews each application to determine—

(1) The extent to which the applicant's activities and training programs have contributed to an improved supply of specialists on the program's subject area as shown through indices such as undergraduate and graduate enrollments and placement data; and the extent to which the applicant supplies a clear description of how the applicant will provide equal access and treatment of eligible project participants who are members of groups that have been traditionally underrepresented, such as members of racial or ethnic minority groups, women, persons with disabilities, and the elderly;

(2) The applicant's record of placing students into post-graduate employment, education, or training in areas of national need and the applicant's stated efforts to increase the number of such students that go into such placements;

(3) The degree to which fellowships awarded by the applicant address national needs; and

(4) The extent to which the applicant provides an evaluation plan that is comprehensive and objective and that will produce quantifiable, outcome-measure-oriented data; and the extent to which recent evaluations have been used to improve the applicant's program.

(h) Foreign language and area studies fellowships awardee selection procedures (up to 10 points). The Secretary reviews each application to determine whether the selection plan is of high quality, showing how awards will be advertised, how students apply, what selection criteria are used, who selects the fellows, when each step will take place, and how the process will result in awards being made to correspond to any announced priorities.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

4. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

Performance reports for the FLAS Program must be submitted electronically into the Office of International and Foreign Language Education web-based reporting system, International Resource Information System (IRIS). For information about IRIS and to view the reporting instructions, please go to: https://iris.ed.gov/iris/pdfs/FLAS_director.pdf.

(c) Under 34 CFR 75.250(b), the Secretary may provide a grantee with additional funding for data collection analysis and reporting. If a grantee is provided additional funding for this purpose, the Secretary establishes a data collection period.

5. Performance Measures: Under the Government Performance and Results Act of 1993, the following measures will be used by the Department to evaluate the success of the FLAS program:

(a) Percentage of FLAS-graduated fellows who secured employment that utilizes their foreign language and area studies skills within eight years after graduation, based on the FLAS tracking survey.

(b) Percentage of FLAS master's and doctoral graduates who studied priority languages as defined by the Secretary of Education.

(c) Percentage of FLAS fellows who increased their foreign language reading, writing, and/or listening/speaking scores by at least one proficiency level.

(d) Efficiency: Cost per FLAS fellowship program fellow who increased his/her reading, writing, and/or listening/speaking language score by at least one proficiency level.

The information provided by grantees in their performance reports submitted via IRIS will be the source of data for these measures. Reporting screens for institutions can be viewed at: https://iris.ed.gov/iris/pdfs/FLAS_director.pdf.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Annmarie Weisman,
Deputy Assistant Secretary for Policy, Planning and Innovation, Office of Postsecondary Education.

[FR Doc. 2021-27230 Filed 12-15-21; 8:45 am]

BILLING CODE 4000-01-P